DEPARTMENT OF COMMERCE

Foreign-Trade Zones Board

[B-43-2019]

Foreign-Trade Zone (FTZ) 176—Rockford, Illinois; Notification of Proposed Production Activity; Staal & Plast USA, Inc.; (Irrigation Trays) Sycamore, Illinois

Staal & Plast USA, Inc. (Staal & Plast) submitted a notification of proposed production activity to the FTZ Board for its facility in Sycamore, Illinois. The notification conforming to the requirements of the regulations of the FTZ Board (15 CFR 400.22) was received on June 24, 2019.

Staal & Plast facility is located within FTZ 176. The facility is used for the production of irrigation trays for horticultural purposes. Pursuant to 15 CFR 400.14(b), FTZ activity would be limited to the specific foreign-status materials and components and specific finished products described in the submitted notification (as described below) and subsequently authorized by the FTZ Board.

Production under FTZ procedures could exempt Staal & Plast from customs duty payments on the foreign-status components used in export production. On its domestic sales, for the foreign-status materials/components noted below, Staal & Plast would be able to choose the duty rates during customs entry procedures that apply to high impact polystyrene plastic irrigation trays (duty rate ranges from duty-free to 5.3%). Staal & Plast would be able to avoid duty on foreign-status components which become scrap/waste. Customs duties also could possibly be deferred or reduced on foreign-status production equipment.

The components and materials sourced from abroad include high impact polystyrene plastic sheets, water release valves and miscellaneous small parts of ebb-flow irrigation systems (including filters, plastic-based sealing (adhesive) components, rubber plugs and plastic repair corners) (duty rate ranges from duty-free to 5.8%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 12, 2019.

A copy of the notification will be available for public inspection in the “Reading Room” section of the Board's website, which is accessible via www.trade.gov/ftz.

For further information, contact Christopher Wedderburn at Chris.Wedderburn@trade.gov or (202) 482-1963.

Dated: June 27, 2019
Andrew McGilvray,
Executive Secretary.

[FR Doc. 2019-14233 Filed 7-2-19; 8:45 am]

BILLING CODE 3510-DS-P